DEPARTMENT OF STATE

[Public Notice 6859]

In the Matter of the Review of the Designation of Kahane Chai (aka American Friends of the United Yeshiva Movement aka American Friends of Yeshivat Rav Meir aka Committee for the Safety of the Roads aka Dikuy Bogdim aka DOV aka Forefront of the Idea aka Friends of the Jewish Idea Yeshiva aka Jewish Legion aka Judea Police aka Judean Congress aka Kach aka Kahane aka Kahane Lives aka Kahane Tzadak aka Kahane.org aka Kahanetzadak.com aka Kfar Tapuah Fund aka KOACH aka Meir's Youth aka New Kach Movement aka newkach.org aka No'ar Meir aka Repression of Traitors aka State of Judea aka Sword of David aka The Committee Against Racism and Discrimination (CARD) aka The Hatikva Jewish Identity Center aka The International Kahane Movement aka The Jewish Idea Yeshiva aka The Judean Legion aka The Judean Voice aka The Qomemiyut Movement aka The Rabbi Meir David Kahane Memorial Fund aka The Voice of Judea aka The Way of the Torah aka The Yeshiva of the Jewish Idea aka Yeshivat HaRav Meir) As a Foreign Terrorist Organization pursuant to Section 219 of the Immigration and Nationality Act, as amended

Based upon a review of the Administrative Record assembled in these matters pursuant to Section 219(a)(4)(C) of the Immigration and Nationality Act, as amended (8 U.S.C. 1189(a)(4)(C)) (“INA”), and in consultation with the Attorney General and the Secretary of the Treasury, I conclude that the circumstances that were the basis for the 2004 re-designation of the aforementioned organization as foreign terrorist organization have not changed in such a manner as to warrant revocation of the designation and that the national security of the United States does not warrant a revocation of the designation.

Therefore, I hereby determine that the designation of the aforementioned organization as foreign terrorist organizations, pursuant to Section 219 of the INA (8 U.S.C. 1189), shall be maintained.

This determination shall be published in the Federal Register.

Dated: December 22, 2009.
James B. Steinberg,
Deputy Secretary of State, Department of State.

[FR Doc. E9-31305 Filed 1-4-10; 8:45 am]

BILLING CODE 4710-10-P